DEPARTMENT OF ENERGY

Federal Energy Regulatory Commission

[Docket No. CP10-7-000]

Columbia Gas Transmission, LLC; Notice of Request Under Blanket Authorization

October 22, 2009.

Take notice that on October 14, 2009, Columbia Gas Transmission, LLC (Columbia) 5151 San Felipe, Suite 2500, Houston, Texas 77056, filed in Docket No. CP10-7-000, an application pursuant to sections 157.205, 157.208(b) and 157.216(b) of the Commission's Regulations under the Natural Gas Act (NGA) as amended, to construct, uprate, replace, and abandon certain natural gas facilities near Columbia's Majorsville compressor station system in Marshall County, West Virginia, under Columbia's blanket certificate issued in Docket No. CP83-76-000,¹ all as more fully set forth in the application which is on file with the Commission and open to the public for inspection.

¹ 22 FERC ¶ 62,029 (1983).

Columbia proposes to uprate the Maximum Allowable Operating Pressure on approximately 17 miles of 20-inch diameter pipeline (Line 1758) from 760 psig to 936 psig; construct and extend Line 1758 with approximately 0.7 miles of 20-inch pipeline and appurtenances; construct approximately 2.9 miles of 20-inch diameter pipeline and appurtenances (Line 10365); and abandon approximately 0.04 mile of 20-inch diameter pipeline and appurtenances. Columbia also states that the proposed facilities would enable it to transport up to 225 MMcf/day of natural gas from Chesapeake Appalachia, LLC's (Chesapeake) and joint venture partner, Statoil Natural Gas LLC, from Chesapeake's production fields in the Marcellus shale formation to a new MarkWest Liberty Midstream & Resources, L.L.C. processing plant to be built on the grounds of Columbia's Majorsville compressor station. Columbia further states that the proposed new facilities and modifications would cost an estimated $28,200,000 to construct.

Any questions concerning this application may be directed to Fredric J. George, Senior Counsel, Columbia Gas Transmission, LLC, P.O. Box 1273, Charleston, West Virginia 25325-1273 or via telephone at (304) 357-2359 or by facsimile (304) 357-3206.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E9-25980 Filed 10-28-09; 8:45 am]

BILLING CODE 6717-01-P